FEDERAL RESERVE SYSTEM

Agency Information Collection Activities: Announcement of Board Approval Under Delegated Authority and Submission to OMB

SUMMARY: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Michelle Shore—Division of Research and Statistics, Board of Governors of the Federal Reserve System, Washington, DC 20551 (202-452-3829).

OMB Desk Officer—Alexander T. Hunt—Office of Information and Regulatory Affairs, Office of Management and Budget, New Executive Office Building, Room 10235, Washington, DC 20503.

Final approval under OMB delegated authority of the extension for three years, without revision, of the following reports:

1. Report title: Notifications Related to Community Development and Public Welfare Investments of State Member Banks.

Agency form number: FR H-6.

OMB control number: 7100-0278.

Frequency: Event-generated.

Reporters: State member banks.

Annual reporting hours: 86.

Estimated average hours per response: Investment notice, 2 hours; application (prior approval) 5 hours; and extension of divestiture period, 5 hours.

Number of respondents: Investment notice, 38; application (prior approval), 1; and extension of divestiture period, 1.

General description of report: This information collection is required to obtain a benefit (12 U.S.C. 338a and 12 CFR 208.22). Individual respondent data generally are not regarded as confidential but information that is proprietary or concerns examination ratings would be considered confidential.

Abstract: Regulation H requires state member banks that want to make community development or public welfare investments to comply with the Regulation H notification requirements: (1) If the investment does not require prior Board approval, a written notice must be sent to the appropriate Federal Reserve Bank; (2) if certain criteria are not met, a request for approval must be sent to the appropriate Federal Reserve Bank; and, (3) if the Board orders divestiture but the bank cannot divest within the established time limit, a request or requests for extension of the divestiture period must be submitted to the appropriate Federal Reserve Bank.

Current Actions: On June 3, 2008, the Federal Reserve published a notice in the Federal Register (73 FR 31684) requesting public comment for 60 days on the extension, without revision, of the FR H-6 information collection. The comment period for this notice expired on August 4, 2008. The Federal Reserve did not receive any comments.

Proposal to approve under OMB delegated authority the extension for three years, with revision, of the following reports:

1. Report title: Application for Membership in the Federal Reserve System.

Agency form number: FR 2083, 2083A, 2083B, and 2083C.

OMB control number: 7100-0046.

Frequency: On occasion.

Reporters: Newly organized banks that seek to become state member banks, or existing banks or savings institutions that seek to convert to state member bank status.

Annual reporting hours: 260 hours.

Estimated average hours per response: 4 hours.

Number of respondents: 65.

General description of report: This information collection is authorized by Section 9 of the Federal Reserve Act (12 U.S.C. 321, 322, and 333) and is required to obtain or retain a benefit. Most individual respondent data are not considered confidential. Applicants may, however, request that parts of their membership applications be kept confidential, but in such cases the Applicant must justify its request by demonstrating how an exemption under the Freedom of Information Act (FOIA) is satisfied. The confidentiality status of the information submitted will be judged on a case-by-case basis.

Abstract: The application for membership is a required one-time submission that collects the information necessary for the Federal Reserve to evaluate the statutory criteria for admission of a new or existing state bank into membership in the Federal Reserve System. The application collects managerial, financial, and structural data.

Current actions: On June 3, 2008, the Federal Reserve published a notice in the Federal Register (73 FR 31684) requesting public comment for 60 days on the extension, with revision, of the applications. The comment period for this notice expired on August 4, 2008. The Federal Reserve did not receive any comments. The revisions will be implemented as proposed.

2. Report title: Applications for Subscription to, Adjustment in the Holding of, and Cancellation of Federal Reserve Bank Stock.

Agency form number: FR 2030, FR 2030a, FR 2056, FR 2086, FR 2086a, and FR 2087.

OMB control number: 7100-0042.

Frequency: On occasion.

Reporters: National, state member, and nonmember banks.

Annual reporting hours: FR 2030, 15 hours; FR 2030a, 26 hours; FR 2056, 864 hours; FR 2086, 1 hour; FR 2086a, 18 hours; and FR 2087, 2 hours.

Estimated average hours per response: 0.5 hours.

Number of respondents: FR 2030, 30; FR 2030a, 52; FR 2056, 1,728; FR 2086, 2; FR 2086a, 36; and FR 2087, 4.

General description of report: These information collections are mandatory.

• FR 2030 and FR 2030a: (12 U.S.C. §§ 222, 282, 248(a), and 321);

• FR 2056: (12 U.S.C. 287, 248(a) and (i));

• FR 2086: (12 U.S.C. 287, 248(a) and (i));

• FR 2086a: (12 U.S.C. 321, 287, and 248(a)); and

• FR 2087: (12 U.S.C. 288 and 248 (a) and (i)).

Most individual respondent data are not considered confidential. Applicants may, however, request that parts of their membership applications be kept confidential, but in such cases the Applicant must justify its request by demonstrating how an exemption under the FOIA is satisfied. The confidentiality status of the information submitted will be judged on a case-by-case basis.

Abstract: These application forms are required by the Federal Reserve Act and Regulation I. These forms must be used by a new or existing member bank (including a national bank) to request the issuance, and adjustment in, or cancellation of Federal Reserve Bank stock. The forms must contain certain certifications by the applicants, as well as certain other financial and shareholder data that is needed by the Federal Reserve to process the request.

Current actions: On June 3, 2008, the Federal Reserve published a notice in the Federal Register (73 FR 31684) requesting public comment for 60 days on the extension, with revision, of the applications. The comment period for this notice expired on August 4, 2008. The Federal Reserve did not receive any comments.

The Federal Reserve proposed to add additional signature lines the FR 2030, 2030a, 2056, and 2086a that were intended to facilitate the processing of each application form by the appropriate Reserve Bank. However, after further review the Federal Reserve decided to remove from consideration the proposed additional signature lines because it could create greater confusion for the banks while adding little benefit to the Federal Reserve.

3. Report title: Report of Changes in Organizational Structure, Supplement to the Report of Changes in Organizational Structure, Annual Report of Bank Holding Companies, Annual Report of Foreign Banking Organizations.

Agency form numbers: FR Y-10, FR Y-10E, FR Y-6, and FR Y-7.

OMB control number: 7100-0297.

Frequency: Event-generated, annual.

Reporters: Bank holding companies (BHCs), foreign banking organizations (FBOs), member banks, Edge and agreement corporations.

Annual reporting hours: FR Y-10, 26,712 hours; FR Y-10E, 1,384 hours; FR Y-6, 27,069 hours; and FR Y-7, 900 hours.

Estimated average hours per response: FR Y-10, 1.00 to 1.25 hours; FR Y-10E, 0.50 hours; FR Y-6, 5.25 hours; and FR Y-7, 3.50 hours.

Number of respondents: FR Y-10, 5,952; FR Y-10E, 2,768; FR Y-6, 5,156; and FR Y-7, 257.

General description of report: These information collections are mandatory under the Federal Reserve Act, the BHC Act, and the International Banking Act (12 U.S.C. 248 (a)(1), 321, 601, 602, 611a, 615, 625, 1843(k), 1844(c)(1)(A), 3106(a), and 3108(a)), and Regulations K and Y (12 CFR 211.13(c), 225.5(b), and 225.87). Individual respondent data are not considered confidential. However, respondents may request confidential treatment for any information that they believe is subject to an exemption from disclosure under the FOIA, 5 U.S.C. 552(b).

Abstract: The FR Y-10 is an event-generated information collection submitted by FBOs; top-tier BHCs; state member banks unaffiliated with a BHC; Edge and agreement corporations that are not controlled by a member bank, a domestic BHC, or a FBO; and nationally chartered banks that are not controlled by a BHC (with regard to their foreign investments only), to capture changes in their regulated investments and activities. The Federal Reserve uses the data to monitor structure information on subsidiaries and regulated investments of these entities engaged in banking and nonbanking activities. The FR Y-10E is a free-form supplement that may be used to collect additional structural information deemed to be critical and needed in an expedited manner.

The FR Y-6 is an annual information collection submitted by top-tier BHCs and nonqualifying FBOs. It collects financial data, an organization chart, verification of domestic branch data, and information about shareholders. The Federal Reserve uses the data to monitor holding company operations and determine holding company compliance with the provisions of the BHC Act and Regulation Y (12 CFR 225).

The FR Y-7 is an annual information collection submitted by qualifying FBOs to update their financial and organizational information with the Federal Reserve. The Federal Reserve uses information to assess an FBO's ability to be a continuing source of strength to its U.S. operations and to determine compliance with U.S. laws and regulations.

Current Actions: On June 3, 2008, the Federal Reserve published a notice in the Federal Register (73 FR 31684) requesting public comment for 60 days on the extension, with revision, of these information collections. The comment period for this notice expired on August 4, 2008. The Federal Reserve did not receive any comments. The revisions will be implemented as proposed.

Board of Governors of the Federal Reserve System, August 14, 2008.
Robert deV. Frierson,
Deputy Secretary of the Board.

[FR Doc. E8-19188 Filed 8-19-08; 8:45 am]

BILLING CODE 6210-01-P